DEPARTMENT OF HOUSING AND URBAN DEVELOPMENT

[Docket No. FR-5300-FA-09]

Announcement of Funding Awards for the Public and Indian Housing Family Self-Sufficiency Program Under the Resident Opportunity and Self-Sufficiency (ROSS) Program for Fiscal Year 2009

AGENCY: Office of Public and Indian Housing, HUD.

ACTION: Announcement of Funding Awards.

SUMMARY: In accordance with Section 102(a)(4)(C) of the Department of Housing and Urban Development Reform Act of 1989, this announcement notifies the public of funding decisions made by the Department for funding under the FY 2009 Notice of Funding Availability (NOFA) for the Public and Indian Housing Family Self-Sufficiency Program under the Resident Opportunity and Self-Sufficiency (ROSS) Program for Fiscal Year 2009. This announcement contains the consolidated names and addresses of those award recipients selected for funding based on the funding priority categories established in the NOFA.

FOR FURTHER INFORMATION CONTACT: For questions concerning the FY 2009 Public and Indian Housing Family Self-Sufficiency Program under the Resident Opportunity and Self-Sufficiency (ROSS) Program awards, contact the Office of Public and Indian Housing's Grant Management Center, Acting Director, Keia L. Neal, Department of Housing and Urban Development, Washington, DC, telephone (202) 475-8908. For the hearing or speech impaired, these numbers may be accessed via TTY (text telephone) by calling the Federal Information Relay Service at 1 (800) 877-8339. (Other than the “800” TTY number, these telephone numbers are not toll-free.)

SUPPLEMENTARY INFORMATION: The authority for the $12,000,000 in one-year budget authority for the Public and Indian Housing Family Self-Sufficiency Program under the Resident Opportunity and Self-Sufficiency (ROSS) Program is found in the Department of Housing and Urban Development Appropriations Act, 2009 (Pub. L. 111-8). The allocation of housing assistance budget authority is pursuant to the provisions of 24 CFR 984.

This program is intended to promote the development of local strategies to coordinate the use of assistance under the Public Housing program with public and private resources, enable participating families to increase earned income and financial literacy, reduce or eliminate the need for welfare assistance, and make progress toward achieving economic independence and housing self-sufficiency. The FSS program provides critical tools that can be used by communities to support welfare reform and help families develop new skills that will lead to economic self-sufficiency. A Public Housing Family Self-Sufficiency Program Coordinator assures that program participants are linked to the supportive services they need to achieve self-sufficiency.

The Fiscal Year 2009 awards announced in this Notice were selected for funding in a competition announced in the Federal Register NOFA published on June 22, 2009. In accordance with Section 102(a)(4)(C) of the Department of Housing and Urban Development Reform Act of 1989 (103 Stat. 1987, 42 U.S.C. 3545), the Department is publishing the names, addresses, and amounts of the 207 awards made under the Public and Indian Housing Family Self-Sufficiency Program under Resident Opportunity and Self-Sufficiency (ROSS) Program competition.

Dated: February 26, 2010.
Sandra B. Henriquez,
Assistant Secretary for Public and Indian Housing.

Appendix A

Fiscal Year 2009

Funding Awards for the

Public and Indian Housing Family Self Sufficiency Program Under

Resident Opportunity and Self-Sufficiency (ROSS)

Recipient | Address | City | State | Zip code | Amount ($)
Alexander City Housing Authority | 2110 County Road | Alexander City | AL | 35010 | $38,773
Housing Authority of the Birmingham District | 1826 3rd Avenue South | Birmingham | AL | 35233 | 68,000
Housing Authority of the City of Prichard | 4559 St. Stephens Road | Eight Mile | AL | 36613 | 48,896
Huntsville Housing Authority | 200 Washington Street | Huntsville | AL | 35804 | 55,000
Jefferson County Housing Authority | 3700 Industrial Parkway | Birmingham | AL | 35217 | 55,666
Mobile Housing Board | 151 South Claiborne Street | Mobile | AL | 36602 | 47,259
Tuscaloosa Housing Authority | 2808 10th Avenue | Tuscaloosa | AL | 35401 | 39,847
Housing Authority of the City of North Little Rock Arkansas | 2201 Division | North Little Rock | AR | 72114 | 39,446
Housing Authority of the City of West Memphis | 2820 Harrison Street | West Memphis | AR | 72301 | 42,230
City of Phoenix Housing Department | 251 West Washington 4th Floor | Phoenix | AZ | 85003 | 68,000
City of Tucson | P.O. Box 27210 310 North Commerce Park Loop | Tucson | AZ | 85726 | 68,000
Housing Authority City of Yuma | 420 South Madison Avenue | Yuma | AZ | 85364 | 60,639
Housing Authority of Maricopa County | 2024 North 7th Street Suite 101 | Phoenix | AZ | 85006 | 48,911
Bear River Band of Rohnerville Rancheria | 27 Bear River Drive | Loleta | CA | 95551 | 67,208
Housing Authority of the City of Madera | 205 North G Street | Madera | CA | 93637 | 52,785
Housing Authority of the City of Oxnard | 435 South D Street | Oxnard | CA | 93030 | 68,000
Housing Authority of the City of San Buenaventura | 995 Riverside Street | Ventura | CA | 93001 | 67,465
Housing Authority of the City of San Luis Obispo | 487 Leff Street | San Luis Obispo | CA | 93401 | 53,031
Housing Authority of the County of Kern | 601-24th Street | Bakersfield | CA | 93301 | 62,710
Housing Authority of the County of Marin | 4020 Civic Center Drive | San Rafael | CA | 94903 | 66,950
Housing Authority of the County of San Bernardino | 715 East Brier Drive | San Bernardino | CA | 92408 | 68,000
Housing Authority of the County of San Joaquin | 448 South Center Street | Stockton | CA | 95203 | 116,934
Housing Authority of the County of Santa Cruz | 2931 Mission Street | Santa Cruz | CA | 95060 | 68,000
Housing Authority of the County of Stanislaus | P.O. Box 581918 1701 Robertson Road | Modesto | CA | 95358 | 65,000
Sacramento City Housing Authority | 630 I Street | Sacramento | CA | 95814 | 68,000
Adams County Housing Authority | 7190 Colorado Boulevard 6th Floor | Commerce City | CO | 80022 | 66,950
Boulder Housing Partners aba Housing Authority City of Boulder | 4800 Broadway | Boulder | CO | 80304 | 68,000
Fort Collins Housing Authority | 1715 West Mountain | Fort Collins | CO | 80521 | 68,000
Housing Authority of the City and County of Denver | 777 Grant Street | Denver | CO | 80203 | 236,150
Housing Authority of the City of Meriden | 22 Church Street | Meriden | CT | 6451 | 56,834
Housing Authority of the City of New Haven | 360 Orange Street | New Haven | CT | 6511 | 57,181
Housing Authority of the City of Norwalk | P.O. Box 508 24½ Monroe Street | Norwalk | CT | 6856 | 68,000
Housing Authority of the Town of Greenwich | 249 Milbank Avenue | Greenwich | CT | 6830 | 68,000
Hialeah Housing Authority | 75 East 6th Street | Hialeah | FL | 33010 | 39,120
Housing Authority of Brevard County | 615 Kurek Court | Merritt Island | FL | 32953 | 53,614
Housing Authority of Lakeland | 430 Hartsell Avenue | Lakeland | FL | 33815 | 50,567
Housing Authority of the City of Fort Myers | 4224 Michigan Avenue | Fort Myers | FL | 33916 | 58,342
Housing Authority of the City of Fort Pierce | 707 North 7th Street | Fort Pierce | FL | 34950 | 45,320
Housing Authority of the City of Tampa | 1514 Union Street | Tampa | FL | 33607 | 65,625
Jacksonville Housing Authority | 1300 Broad Street | Jacksonville | FL | 32202 | 44,967
Lee County Housing Authority | 14170 Warner Circle North West | North Fort Myers | FL | 33903 | 47,380
Sarasota Housing Authority | 1300 Boulevard of the Arts | Sarasota | FL | 34236 | 46,350
The Housing Authority of the City of Daytona Beach | 211 North Ridgewood Avenue Suite 200 | Daytona Beach | FL | 32114 | 43,709
The West Palm Beach Housing Authority | 1715 Division Avenue | West Palm Beach | FL | 33407 | 39,035
City of Carrollton Housing Authority | P.O. Box 627 1 Roop Street | Carrollton | GA | 30112 | 59,295
Housing Authority of Columbus, Georgia | P.O. Box 630 1000 Wynnton Road | Columbus | GA | 31902 | 45,000
Housing Authority of Savannah | 1407 Wheaton Street | Savannah | GA | 31404 | 67,980
Housing Authority of the City of Albany, GA | P.O. Box 485 521 Pine Avenue | Albany | GA | 31702 | 29,938
Macon Housing Authority | 2015 Felton Avenue | Macon | GA | 31201 | 63,368
Northwest Georgia Housing Authority | 800 North Fifth Avenue | Rome | GA | 30162 | 45,521
Tri-City Housing Authority | P.O. Box 220 33 Martin Luther King Jr. Drive | Woodland | GA | 31836 | 68,000
City of Des Moines Municipal Housing Agency | 100 East Euclid Avenue Suite 101 | Des Moines | IA | 50313 | 31,091
Eastern Iowa Regional Housing Authority | 7600 Commerce Park | Dubuque | IA | 52002 | 64,802
Nampa Housing Authority | 211 19th Avenue North | Nampa | ID | 83687 | 42,529
Chicago Housing Authority | 626 West Jackson Boulevard | Chicago | IL | 60661 | 56,274
Housing Authority of Greene County | P.O. Box 336 325 North Carr | White Hall | IL | 62092 | 45,910
Housing Authority of Henry County | 125 North Chestnut Street | Kewanee | IL | 61443 | 47,493
Housing Authority of the City of Rock Island | 227—21st Street | Rock Island | IL | 61201 | 65,000
Macoupin County Housing Authority | P.O. Box 226 760 Anderson Street | Carlinville | IL | 62626 | 41,375
Rockford Housing Authority | 223 South Winnebago Street | Rockford | IL | 61102 | 66,955
Springfield Housing Authority | 200 North Eleventh Street | Springfield | IL | 62703 | 38,192
Housing Authority of the City of Elkhart | 1396 Benham Avenue | Elkhart | IN | 46516 | 39,788
Housing Authority of the City of Fort Wayne, Indiana | P.O. Box 13489 7315 Hanna Street | Fort Wayne | IN | 46869 | 42,600
Housing Authority of the City of Terre Haute | 2001 North 19th Street | Terre Haute | IN | 47804 | 63,553
Housing Authority of the County of Delaware, Indiana | 2401 South Haddix Avenue | Muncie | IN | 47302 | 49,764
Indianapolis Housing Agency | 1919 North Meridian Street | Indianapolis | IN | 46202 | 45,000
The Housing Authority of the City of Michigan City, Indiana | 621 East Michigan Boulevard | Michigan City | IN | 46360 | 41,375
Lawrence-Douglas County Housing Authority | 1600 Haskell Avenue | Lawrence | KS | 66044 | 67,880
Salina Housing Authority | P.O. Box 1202 469 South 5th Street | Salina | KS | 67402 | 58,350
Housing Authority of Bowling Green | 247 Double Springs Road | Bowling Green | KY | 42101 | 46,350
Housing Authority of Glasgow | P.O. Box 1745 111 Bunche Avenue | Glasgow | KY | 42142 | 40,631
Louisville Metro Housing Authority | 420 South Eighth Street | Louisville | KY | 40203 | 68,000
Housing Authority of New Orleans | 4100 Touro Street | New Orleans | LA | 70122 | 68,000
Jefferson Parish Housing Authority | 1718 Betty Street | Marrero | LA | 70072 | 45,893
Shreveport Housing Authority | 2500 Line Avenue | Shreveport | LA | 71104 | 36,220
Boston Housing Authority | 52 Chauncy Street | Boston | MA | 2111 | 68,000
Framingham Housing Authority | 1 John J Brady Drive | Framingham | MA | 1702 | 67,620
Holyoke Housing Authority | 475 Maple Street, Suite One | Holyoke | MA | 1040 | 46,353
Lynn Housing Authority & Neighborhood Development (LHAND) | 10 Church Street | Lynn | MA | 1902 | 51,528
Somerville Housing Authority | 30 Memorial Road | Somerville | MA | 2145 | 65,500
Worcester Housing Authority | 40 Belmont Street | Worcester | MA | 1605 | 65,500
Housing Authority of Baltimore City | 417 East Fayette Street Room 923 | Baltimore | MD | 21202 | 68,000
Housing Authority of the City of Frederick | 209 Madison Street | Frederick | MD | 21701 | 53,045
Housing Authority of the City of Hagerstown | 35 West Baltimore Street | Hagerstown | MD | 21740 | 99,050
Housing Authority of Washington County | 319 East Antietam Street 2nd Floor | Hagerstown | MD | 21740 | 4,311
Housing Commission of Anne Arundel County | 7477 Baltimore-Annapolis Boulevard | Glen Burnie | MD | 21061 | 63,000
Housing Opportunities Commission | 10400 Detrick Avenue | Kensington | MD | 20895 | 137,034
Rockville Housing Enterprises | 621A Southlawn Lane | Rockville | MD | 20850 | 22,403
Housing Authority of the City of Brewer | 15 Colonial Circle Suite 1 | Brewer | ME | 4412 | 51,293
Lewiston Housing Authority | 1 College Street | Lewiston | ME | 4240 | 17,329
Portland Housing Authority | 14 Baxter Boulevard | Portland | ME | 4101 | 18,599
Detroit Housing Commission | 1301 East Jefferson | Detroit | MI | 48207 | 68,000
Grand Rapids Housing Commission | 1420 Fuller Avenue South East | Kent | MI | 49507 | 65,500
Muskegon Housing Commission | 1080 Terrace Street | Muskegon | MI | 49442 | 43,452
Housing & Redevelopment of Virginia, MN | 442 Pine Mill Court | Virginia | MN | 55792 | 56,120
Housing Authority of St. Louis Park | 5005 Minnetonka Boulevard | St. Louis Park | MN | 55416 | 17,510
Washington County Housing and Redevelopment Authority | 321 Broadway Avenue | Saint Paul Park | MN | 55071 | 28,396
Housing Authority of Kansas City, MO | 301 East Armour | Kansas City | MO | 64111 | 54,213
Housing Authority of the City of Columbia, MO | 201 Switzler Street | Columbia | MO | 65203 | 50,870
St. Louis Housing Authority | 4100 Lindell Boulevard | St. Louis | MO | 63108 | 68,000
The Housing Authority of the City of Saint Charles | 1041 Olive Street | Saint Charles | MO | 63301 | 43,602
Natchez Housing Authority | 2 Auburn Avenue | Natchez | MS | 39120 | 61,673
The Housing Authority of the City of Biloxi | P.O. Box 447 330 Benachi Avenue | Biloxi | MS | 39533 | 42,800
The Housing Authority of the City of Meridian | 2425 East Street | Meridian | MS | 39301 | 55,350
Missoula Housing Authority | 1235 34th Street | Missoula | MT | 59801 | 68,000
Burlington Housing Authority | 133 North Ireland Street | Burlington | NC | 27217 | 56,783
City of Concord Housing Department | P.O. Box 308 283 Harold Goodman Circle | Concord | NC | 28026 | 47,153
City of Hickory Public Housing Authority | Post Office Box 2927 | Hickory | NC | 28603 | 48,615
Gastonia Housing Authority | P.O. Box 2398 340 West Long Avenue | Gastonia | NC | 28053 | 50,000
Greensboro Housing Authority | P.O. Box 21287 | Greensboro | NC | 27420 | 62,490
Housing Authority of the City of Asheville | 165 South French Broad Avenue | Asheville | NC | 28801 | 55,000
Housing Authority of the City of Charlotte | 1301 South Boulevard | Charlotte | NC | 28203 | 65,000
Housing Authority of the City of Greenville | 1103 Broad Street | Greenville | NC | 27834 | 58,613
Housing Authority of the City of High Point | 500 East Russell Avenue | High Point | NC | 27261 | 101,674
Housing Authority of the City of Kinston, NC | 608 North Queen Street | Kinston | NC | 28501 | 45,589
Lexington Housing Authority | 1 Jamaica Drive | Lexington | NC | 27292 | 56,363
The Housing Authority of The City of Durham | P.O. Box 1726 330 East Main Street | Durham | NC | 27701 | 68,000
Housing Authority of the City of Lincoln | 5700 R Street | Lincoln | NE | 68505 | 50,346
Housing Authority of the City of Omaha | 540 South 27th Street | Omaha | NE | 68105 | 44,277
Kearney Housing Agency | P.O. Box 1236 2715 Avenue I | Kearney | NE | 68848 | 45,000
Atlantic City Housing Authority | 227 North Vermont Avenue 17th Floor | Atlantic City | NJ | 8401 | 56,374
Housing Authority of the City of Camden | 2021 Watson Street 2nd Floor | Camden | NJ | 8103 | 47,608
Housing Authority of the County of Morris | 99 Ketch Road | Morristown | NJ | 7960 | 35,050
Millville Housing Authority | P.O. Box 803 1153 Holly Berry Lane | Millville | NJ | 8332 | 46,679
New Brunswick Housing Authority | 7 Van Dyke Avenue | New Brunswick | NJ | 8901 | 68,000
The Housing Authority of Plainfield | 510 East Front Street | Plainfield | NJ | 7060 | 68,000
The Newark Housing Authority | 500 Broad Street 2nd Floor | Newark | NJ | 7102 | 68,000
City of Albuquerque Housing Services | 1840 University Boulevard South East | Albuquerque | NM | 87106 | 67,465
Clovis Housing & Redevelopment Agency, Inc | 2101 West Grand Avenue | Clovis | NM | 88101 | 43,709
Housing Authority of Truth or Consequences | 108 South Cedar | Truth or Consequences | NM | 87901 | 54,590
Santa Fe Civic Housing Authority | 664 Alta Vista Street | Santa Fe | NM | 87505 | 55,908
Santa Fe County Housing Authority | 52 Camino De Jacobo | Santa Fe | NM | 87507 | 54,939
Taos County Housing Authority | Box 4239 NDCBU 525 Ranchitos Road | Taos | NM | 87571 | 48,792
Housing Authority of the City of Las Vegas | 340 North 11th Street | Las Vegas | NV | 89101 | 123,937
Housing Authority of the City of Reno | 1525 East 9th Street | Reno | NV | 89512 | 27,392
Housing Authority of the County of Clark, NV | 5390 East Flamingo Road | Las Vegas | NV | 89122 | 53,543
Buffalo Municipal Housing Authority | 300 Perry Street | Buffalo | NY | 14204 | 68,000
Cohoes Housing Authority | 100 Manor Sites | Cohoes | NY | 12047 | 15,116
Geneva Housing Authority | P.O. Box 153 41 Lewis Street | Geneva | NY | 14456 | 64,993
Mechanicville Housing Authority | 1 Harris Avenue | Mechanicville | NY | 12118 | 33,475
Monticello Housing Authority | 76 Evergreen Drive | Monticello | NY | 12707 | 37,660
Municipal Housing Authority of the City of Schenectady | 375 Broadway | Schenectady | NY | 12305 | 55,533
New Rochelle Municipal Housing Authority | 50 Sickles Avenue | New Rochelle | NY | 10801 | 68,000
Rochester Housing Authority | 675 West Main Street | Rochester | NY | 14611 | 64,210
Troy Housing Authority | One Eddy's Lane | Troy | NY | 12180 | 60,190
Akron Metropolitan Housing Authority | 100 West Cedar Street | Akron | OH | 44307 | 127,730
Chillicothe Metropolitan Housing Authority | 178 West Fourth Street | Chillicothe | OH | 45601 | 48,859
Dayton Metropolitan Housing Authority | P.O. Box 8750 400 Wayne Avenue | Dayton | OH | 45401 | 63,148
Fairfield Metropolitan Housing Authority | 315 North Columbus Street | Lancaster | OH | 43130 | 56,019
Geauga Metropolitan Housing Authority | 385 Center Street | Chardon | OH | 44024 | 61,800
Lorain Metropolitan Housing Authority | 1600 Kansas Avenue | Lorain | OH | 44052 | 62,895
Lucas Metropolitan Housing Authority | 435 Nebraska Avenue | Toledo | OH | 43604 | 53,505
Morgan Metropolitan Housing Authority | 4580 N. Street Route 376 NW | McConnelsville | OH | 43756 | 48,397
Springfield Metropolitan Housing Authority | 101 West High Street | Springfield | OH | 45502 | 45,078
Trumbull Metropolitan Housing Authority | 4076 Youngstown Road, South East Suite 101 | Warren | OH | 44484 | 48,620
Youngstown Metropolitan Housing Authority | 131 West Boardman Street | Youngstown | OH | 44503 | 59,518
Zanesville Metropolitan Housing Authority | 407 Pershing Road | Zanesville | OH | 43701 | 51,487
Housing Authority of the City of Muskogee | 220 North 40th Street | Muskogee | OK | 74401 | 41,200
Housing Authority of the City of Shawnee, OK | P.O. Box 3427 601 West Seventh Street | Shawnee | OK | 74802 | 89,465
Housing Authority of the City of Tulsa | 415 East Independence Street | Tulsa | OK | 74106 | 45,352
Housing Authority & Community Services Agency of Lane County | 177 Day Island Road | Eugene | OR | 97401 | 68,000
Housing Authority & Urban Renewal Agency of Polk County, Oregon | 204 Southwest Walnut Avenue P.O. Box 467 | Dallas | OR | 97338 | 15,419
Housing Authority of Portland | 135 South West Ash Street | Portland | OR | 97204 | 199,524
Housing Authority of the City of Salem | 360 Church Street South East | Salem | OR | 97301 | 68,000
Altoona Housing Authority | 2700 Pleasent Valley Boulevard | Altoona | PA | 16602 | 56,674
Housing Authority of Northumberland County | 50 Mahoning Street | Milton | PA | 17847 | 52,154
Housing Authority of the City of York | P.O. Box 1963 31 South Broad Street | York | PA | 17405 | 43,959
Philadelphia Housing Authority | 12 South 23rd Street 6th Floor | Philadelphia | PA | 19103 | 67,465
Westmoreland County Housing Authority | 154 South Greengate Road | Greensburg | PA | 15601 | 58,909
The Housing Authority of the City of Providence | 100 Broad Street | Providence | RI | 2903 | 68,000
Housing Authority of the City of Columbia, South Carolina | 1917 Harden Street | Columbia | SC | 29204 | 48,329
Housing Authority of the City of Spartanburg | 201 Caulder Avenue, Suite A | Spartanburg | SC | 29306 | 51,100
North Charleston Housing Authority | 2170 Ashley Phosphate Road #700 | North Charleston | SC | 29406 | 50,000
The Housing Authority of the City of Greenville, SC | 511 Augusta Street | Greenville | SC | 29605 | 34,962
Crossville Housing Authority | P.O. Box 425 | Crossville | TN | 38557 | 55,182
Jackson Housing Authority | 125 Preston Street | Jackson | TN | 38301 | 98,318
Kingsport Housing & Redevelopment Authority | P.O. Box 44 | Kingsport | TN | 37662 | 62,305
Memphis Housing Authority | 700 Adams Avenue | Memphis | TN | 38105 | 68,000
Metropolitan Development and Housing Agency | 701 South Sixth Street | Nashville | TN | 37206 | 133,677
Shelbyville Housing Authority | P.O. Box 560 316 Templeton Street | Shelbyville | TN | 37160 | 48,483
Cameron County Housing Authority | 65 Castellano Circle | Brownsville | TX | 78521 | 50,565
Housing Authority of the City of Austin | P.O. Box 6159 | Austin | TX | 78762 | 106,160
Housing Authority of the City of Fort Worth | P.O. Box 460 1201 East 13th Street | Fort Worth | TX | 76102 | 68,000
Housing Authority of the City of Mission, Texas | 1300 East 8th | Mission | TX | 78572 | 35,000
Housing Authority of the City of Waco | P.O. Box 978 4400 Cobbs Drive | Waco | TX | 76703 | 51,221
Housing Authority of the County of Hidalgo | 1800 North Texas Boulevard | Weslaco | TX | 78596 | 40,518
San Marcos Housing Authority | 1201 Thorpe Lane | San Marcos | TX | 78666 | 40,846
The Housing Authority of the City of Dallas, Texas (DHA) | 3939 North Hampton Road | Dallas | TX | 75212 | 54,796
Housing Authority of the County of Salt Lake | 3595 South Main Street | Salt Lake City | UT | 84115 | 57,915
Alexandria Redevelopment and Housing Authority | 600 North Fairfax Street | Alexandria | VA | 22314 | 68,000
Bristol Redevelopment and Housing Authority | 809 Edmond Street | Bristol | VA | 24201 | 40,624
Chesapeake Redevelopment & Housing Authority | 1468 South Military Highway | Chesapeake | VA | 23320 | 48,871
Danville Redevelopment and Housing Authority | 135 Jones Crossing | Danville | VA | 24541 | 47,271
Fairfax County Redevelopment and Housing Authority | 3700 Pender Drive Suite 300 | Fairfax | VA | 22030 | 68,000
Norfolk Redevelopment & Housing Authority | 201 Granby Street | Norfolk | VA | 23510 | 136,000
Portsmouth Redevelopment & Housing Authority | 801 Water Street 2nd Floor | Portsmouth | VA | 23704 | 53,729
Richmond Redevelopment and Housing Authority (RRHA) | 901 Chamberlayne Parkway | Richmond | VA | 23220 | 67,465
Waynesboro Redevelopment and Housing Authority | P.O. Box 1138 1700 New Hope Road | Waynesboro | VA | 22980 | 43,000
Housing Authority of the City of Tacoma | 902 South L Street | Tacoma | WA | 98405 | 57,925
Housing Authority of the City of Vancouver | 2500 Main Street | Vancouver | WA | 98660 | 63,860
King County Housing Authority | 600 Andover Park West | Tukwila | WA | 98188 | 66,855
Seattle Housing Authority | P.O. Box 19028 120 6th Avenue North | Seattle | WA | 98109 | 60,715
Housing Authority of the City of Milwaukee | P.O. Box 324 Milwaukee | Milwaukee | WI | 53201 | 67,980
Charleston-Kanawha Housing Authority | 1525 Washington Street West | Charleston | WV | 25312 | 35,200
Parkersburg Housing Authority | 1901 Cameron Avenue | Parkersburg | WV | 26101 | 36,503
Wheeling Housing Authority | P.O. Box 2089 11 Community Street | Wheeling | WV | 26003 | 45,000
Housing Authority of the City of Cheyenne | 3304 Sheridan Street | Cheyenne | WY | 82009 | 32,398

[FR Doc. 2010-7348 Filed 3-31-10; 8:45 am]

BILLING CODE 4210-67-P